ENVIRONMENTAL PROTECTION AGENCY

40 CFR Part 52

[EPA-R01-OAR-2010-0460; A-1-FRL-9904-73-Region-1]

Approval and Promulgation of Air Quality Implementation Plans; Connecticut; Reasonably Available Control Technology Update To Address Control Techniques Guidelines Issued in 2006, 2007, and 2008

AGENCY: Environmental Protection Agency (EPA).

ACTION: Final rule.

SUMMARY: The Environmental Protection Agency (EPA) is approving State Implementation Plan (SIP) revisions submitted by the State of Connecticut. The revisions establish Reasonably Available Control Technology (RACT) for several categories of volatile organic compound (VOC) air emission sources. The intended effect of this action is to approve these requirements into the Connecticut SIP. This action is being taken in accordance with the Clean Air Act (CAA).

DATES: This rule is effective on July 9, 2014.

ADDRESSES: EPA has established a docket for this action under Docket Identification No. EPA-R01-OAR-2010-0460. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 to 4:30, excluding legal holidays.

Copies of the documents relevant to this action are also available for public inspection during normal business hours, by appointment at the Bureau of Air Management, Department of Energy and Environmental Protection, State Office Building, 79 Elm Street, Hartford, CT 06106-1630.

FOR FURTHER INFORMATION CONTACT: David Mackintosh, Air Quality Planning Unit, U.S. Environmental Protection Agency, New England Regional Office, 5 Post Office Square—Suite 100, (Mail Code OEP05-02), Boston, MA 02109-3912, telephone 617-918-1584, facsimile 617-918-0584, email mackintosh.david@epa.gov.

SUPPLEMENTARY INFORMATION: Throughout this document whenever “we,” “us,” or “our” is used, we mean EPA.

Organization of this document: The following outline is provided to aid in locating information in this preamble.

I. Background and Purpose

II. Connecticut's Reasonably Available Control Technology Updates

III. Final Action

IV. Statutory and Executive Order Reviews

I. Background and Purpose

On May 24, 2013 (78 FR 31459), EPA published a Notice of Proposed Rulemaking (NPR) for the State of Connecticut. In that action, EPA proposed approval of Connecticut's revisions to Section 22a-174-20 “Control of Organic Compound Emissions” and Connecticut's newly adopted Section 22a-174-40 “Consumer Products” and Section 22a-174-44 “Adhesives and Sealants.” These regulations address RACT for the VOC source categories covered by Control Technique Guidelines (CTGs) issued by EPA in 2006, 2007, and 2008 ¹ and include requirements to reduce VOC emissions from consumer products based on the 2006 Ozone Transport Commission (OTC) model rule. EPA also proposed approval of the negative declarations for the CTGs for which Connecticut determined no applicable sources exist in the State of Connecticut.

¹ EPA's CTGs are posted at http://www.epa.gov/airquality/ozonepollution/SIPToolkit/ctgs.html.

II. Connecticut's Reasonably Available Control Technology Updates

On February 1, 2008, Connecticut submitted its consumer products regulation to EPA as part of its 8-hour Ozone Attainment Demonstration SIP revision. Then, on November 18, 2008, Connecticut submitted its adhesives and sealants regulation as part of its Annual Fine Particulate Matter (PM2.5) Attainment Demonstration SIP revision. On April 29, 2010, Connecticut submitted a SIP revision that addressed eight CTGs: Flexible package printing; industrial cleaning solvents; large appliance coatings; metal furniture coatings; miscellaneous industrial adhesives; offset lithographic printing and letterpress printing; and paper, film and foil coatings. At that time, Connecticut also submitted negative declarations for three CTGs: Automobile and light-duty truck assembly coating; fiberglass boat manufacturing; and flat wood paneling coating. On November 21, 2012, Connecticut submitted a SIP revision that addressed the CTG for miscellaneous metal and plastic parts coatings. Lastly, in letters dated March 13, 2013 and April 3, 2013, Connecticut withdrew a number of provisions from the April 29, 2010 and February 1, 2008 SIP submittals, respectively.

EPA has reviewed Connecticut's new and revised VOC regulations and found that they are consistent with the relevant CTGs and OTC recommendations. In addition, Connecticut's process for determining the categories for which the state should make negative declarations was reasonable. Therefore, EPA concludes that Connecticut has met the CAA requirement to adopt RACT for all the 2006, 2007, and 2008 CTGs.

III. Final Action

EPA is approving, and incorporating into the SIP, the following changes to Connecticut's Section 22a-174-20 “Control of organic compound emissions” as meeting RACT for the relevant CTG categories: Revised subsection (p) Metal furniture coatings; revised subsection (q) Paper, film, and foil coatings; revised subsection (s) Miscellaneous metal and plastic parts coatings; new subsection (ff) Flexible package printing; new subsection (gg) Offset lithographic printing and letterpress printing; new subsection (hh) Large appliance coatings; new subsection (ii) Industrial solvent cleaning; new subsection (jj) Spray application equipment cleaning; and new subsection (kk) Pleasure craft coatings.

Additionally, EPA is approving, and incorporating into the SIP, Connecticut's new Section 22a-174-40 “Consumer Products,” consistent with the OTC's recommendations, and Connecticut's new Section 22a-174-44 “Adhesives and Sealants” as meeting RACT.

EPA is taking no action on the portions of sections 22a-174-20(ff)(1)(K), (ff)(5)(B)(vi), (gg)(1)(O), (gg)(7)(B)(Vi), (hh)(1)(CC), (hh)(7)(B)(vi), (ii)(1)(I), (ii)(6)(B)(vi), (jj)(1)(H), (jj)(3)(D), and (jj)(6)(B)(vii) which Connecticut withdrew from its April 29, 2010 SIP submittal. Likewise, EPA is taking no action on the portions of Sections 22a-174-40(c)(4) through (7) and 22a-174-40(f)(2)(C) through (D), which Connecticut withdrew from its February 1, 2008 SIP submittal.

EPA is also approving, and incorporating into the SIP, minor revisions to the following subsections of Connecticut's Section 22a-174-20: (f)(9); (l)(1) and (2); (aa)(1); (cc)(2) and (3); and subsection (ee) Reasonably available control technology for large sources. EPA is also approving Connecticut's request to withdraw subsection (g) Architectural coatings of Section 22a-174-20 from the SIP. Lastly, EPA is approving Connecticut's negative declarations for three source categories: Flat wood paneling coating; fiberglass and boat manufacturing; and automobile and light-duty truck assembly coating. Connecticut has, therefore, met the CAA requirement to adopt RACT for all of the 2006, 2007, and 2008 CTGs.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 8, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Volatile organic compounds.

Dated: November 12, 2013.
H. Curtis Spalding,
Regional Administrator, EPA New England.

Editorial note: This document was received for publication by the Office of the Federal Register on June 3, 2014.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(102) to read as follows:

§ 52.370 Identification of plan.

* * * * *

(c) * * *

(102) Revisions to the State Implementation Plan submitted by the Connecticut Department of Environmental Protection on November 18, 2008, April 29, 2010, and November 21, 2012.

(i) Incorporation by reference.

(A) Regulations of Connecticut State Agencies (RCSA) Section 22a-174-20, as published in the Connecticut Law Journal on May 18, 2010, effective April 6, 2010:

(1) The amendment of subdivision (f)(9);

(2) The withdrawal of subsection (g);

(3) The amendment of subdivisions (l)(1) and (l)(2);

(4) The amendment of subsections (p) Metal furniture coatings, (q) Paper, film, and foil coating;

(5) The amendment of subparagraph (s)(2)(B);

(6) The amendment of subsection (ee) Reasonably available control technology for large sources;

(7) The addition of subsection (ff) Flexible package printing, with the exception of the phrases “or other method approved by the commissioner” in subparagraph (ff)(1)(K) and “or alternative method as approved by the commissioner” in clause (ff)(5)(B)(vi);

(8) The addition of subsection (gg) Offset lithographic printing and letterpress printing, with the exception of the phrases “or other method approved by the commissioner” in subparagraph (gg)(1)(O) and “or alternative method as approved by the commissioner” in clause (gg)(7)(B)(vi);

(9) The addition of subsection (hh) Large appliance coatings, with the exception of the phrases “or other method approved by the commissioner” in subparagraph (hh)(1)(CC) and “or alternative method as approved by the commissioner” in clause (hh)(7)(B)(vi);

(10) The addition of (ii) Industrial solvent cleaning, with the exception of the phrases “or other method approved by the commissioner” in subparagraph (ii)(1)(I) and “or alternative method as approved by the commissioner” in clause (ii)(6)(B)(vi); and

(11) The addition of (jj) Spray application equipment cleaning, with the exception of the phrase “or other method approved by the commissioner” in subparagraph (jj)(1)(H), the exception of subparagraph (jj)(3)(D), and the exception of the phrase “or alternative method as approved by the commissioner” in clause (JJ)(6)(B)(vii).

(B) Regulations of Connecticut State Agencies (RCSA) Section 22a-174-20, as published in the Connecticut Law Journal on December 4, 2012, effective October 31, 2012:

(1) The amendment of subsection(s) Miscellaneous metal parts and products;

(2) The amendment of subdivisions (aa)(1), (cc)(2), and (cc)(3);

(3) The amendment of subparagraph (ii)(3)(A); and

(4) The addition of subdivision (kk) Pleasure craft coatings.

(C) Regulations of Connecticut State Agencies (RCSA) Section 22a-174-40 entitled “Consumer Products,” with the exception of subdivisions (4) through (7) in subsection (c) and the exception of subparagraphs (C) and (D) in subdivision (f)(2), effective July 26, 2007.

(D) Regulations of Connecticut State Agencies (RCSA) section 22a-174-44, entitled “Adhesives and Sealants,” effective October 3, 2008.

3. Section 52.375 is amended by adding paragraph (g) to read as follows:

§ 52.375 Certification of no sources.

* * * * *

(g) In its April 29, 2010 submittal to EPA pertaining to reasonably available control technology requirements for the 1997 8-hour ozone standard, the State of Connecticut certified to the satisfaction of EPA that no sources are located in the state that are covered by the following Control Technique Guidelines:

(1) Flat wood paneling coating;

(2) Fiberglass boat manufacturing; and

(3) Automobile and light duty truck assembly coating.

4. In § 52.385, Table 52.385 is amended by:

a. Adding two new entries for existing state citation “22-174-20” in order of “Date adopted by State”; and

b. Adding two new state citations “22a-174-40” and “22a-174-44” in order of “Connecticut State citation”.

The added text reads as follows:

§ 52.385 EPA-approved Connecticut regulations.

* * * * *

Table 52.385—EPA-Approved Regulations
Connecticut State citation | Title/subject | Dates: Date adopted by State | Dates: Date approved by EPA | Federal Register citation | Section 52.370 | Comments/description
* * * * * * *
22a-174-20 | Control of organic compound emissions
* * * * * * *
|  | 04/06/10 | 6/9/14 | [Insert Federal Register page number where the document begins] | (c)(102) | Amendment of subdivision (f)(9), withdrawal of subsection (g), amendment of subdivisions (l)(1) and (l)(2), amendment of subsections (p) Metal furniture coatings, (q) Paper, film, and foil coating, amendment of subparagraph (s)(2)(B), amendment of subsection (ee) Reasonably available control technology for large sources, addition of subsection (ff) Flexible package printing, with the exception of the phrases “or other method approved by the commissioner” in subparagraph (ff)(1)(K) and “or alternative method as approved by the commissioner” in clause (ff)(5)(B)(vi), addition of subsection (gg) Offset lithographic printing and letterpress printing, with the exception of the phrases “or other method approved by the commissioner” in subparagraph (gg)(1)(O) and “or alternative method as approved by the commissioner” in clause (gg)(7)(B)(vi), addition of subsection (hh) Large appliance coatings, with the exception of the phrases “or other method approved by the commissioner” in subparagraph (hh)(1)(CC) and “or alternative method as approved by the commissioner” in clause (hh)(7)(B)(vi), addition of (ii) Industrial solvent cleaning, with the exception of the phrases “or other method approved by the commissioner” in subparagraph (ii)(1)(I) and “or alternative method as approved by the commissioner” in clause (ii)(6)(B)(vi) and addition of (jj) Spray application equipment cleaning, with the exception of the phrases “or other method approved by the commissioner” in subparagraph (jj)(1)(H), with the exception of subparagraph (jj)(3)(D), and with the exception of the phrase “or alternative method as approved by the commissioner” in clause (JJ)(6)(B)(vii).
22a-174-20 | Control of organic compound emissions | 10/31/12 | 6/9/14 | [Insert Federal Register page number where the document begins] | (c)(103) | Amendment of subsection (s) Miscellaneous metal parts and products, amendment of subdivisions (aa)(1), (cc)(2), and (cc)(3), amendment of subparagraph (ii)(3)(A); and addition of subdivision (kk) Pleasure craft coatings.
* * * * * * *
22a-174-40 | Consumer Products | 7/26/07 | 6/9/14 | [Insert Federal Register page number where the document begins] | (c)(103) | All of Section 22a-174-40 is approved, with the exception of subdivisions (4) through (7) in subsection (c) and subparagraphs (C) and (D) in subdivision (f)(2), which CT withdrew from its SIP submittal.
* * * * * * *
22a-174-44 | Adhesives and Sealants | 10/03/08 | 6/9/14 | [Insert Federal Register page number where the document begins] | (c)(103) |
* * * * * * *

[FR Doc. 2014-13220 Filed 6-6-14; 8:45 am]

BILLING CODE 6560-50-P